DEPARTMENT OF LABOR

Agency Information Collection Activities; Submission for OMB Review; Comment Request; Evaluation of the American Apprenticeship Initiative

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed.

Currently, the Department of Labor is soliciting comments concerning the collection of data on the Evaluation of the American Apprenticeship Initiative. A copy of the proposed Information Collection Request (ICR) can be obtained by contacting the office listed below in the addressee section of this notice.

DATES: Written comments must be submitted to the office listed in the addressee section below on or before November 13, 2017.

ADDRESSES: You may submit comments by either one of the following methods:

Email: ChiefEvaluationOffice@dol.gov; Mail or Courier: Janet Javar, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Janet Javar by email at ChiefEvaluationOffice@dol.gov.

SUPPLEMENTARY INFORMATION: I. Background: The American Apprenticeship Initiative awarded funds to 46 grantees to support the expansion of quality and innovative apprenticeship training programs. The Department of Labor is sponsoring an evaluation of this initiative that includes the following four components:

1. An implementation study to describe how grant programs develop, operate and mature. It will examine the context in which the programs operate, the target group and recruitment strategies, employer perceptions of apprenticeship, partnerships, and training strategies.

2. An outcomes study to examine in-program and post-program outcomes of apprentices, particularly around employment, earnings, wages, and employment retention, as well as pre-intervention and post-intervention certification and credential attainment. Particular attention will be given to outcomes for underrepresented populations in apprenticeship.

3. A return on investment study to estimate the benefits and costs of apprenticeship to employers.

4. A demonstration study to examine which recruitment methods and marketing strategies most successfully encourage employers to offer apprenticeships.

This Federal Register Notice provides the opportunity to comment on proposed data collection instruments that will be used in the evaluation:

• Site visits. To support the implementation study, site visits will document the program context, program organization and staffing, the components of apprenticeship programs, and other relevant aspects of apprenticeship programs. During the visits, site teams will interview key grantee administrators, program staff, employers, training providers, and other key stakeholders using discussion guides.

• Grantee survey. To support the implementation study, an on-line survey will be administered to all 46 grantees for the purpose of systematically documenting program operations and the type of services provided across the study sites.

• Demonstration management information system (MIS). To support the demonstration study, the MIS will collect information on grantees' marketing and outreach activities to employers.

A future information collection request will include an employer survey and participant survey.

II. Desired Focus of Comments: Currently, the Department of Labor is soliciting comments concerning the above data collection for the Evaluation of the American Apprenticeship Initiative. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions: At this time, the Department of Labor is requesting clearance for the implementation study site visits, grantee survey, and demonstration management information system (MIS).

Type of Review: New information collection request.

OMB Control Number: 1290-0NEW.

Affected Public: American Apprenticeship Initiative grantee staff and grantee partners involved in providing apprenticeship-related services through the grant.

Estimated Total Burden Hours
Instrument | Total number respondents | Annual number of respondents | Number of responses per respondent | Average burden time per response (hours) | Annual estimated burden | Estimated total burden (hours)
Interview Protocol—Grant Director | 10 | 3.33 | 2 | 2 | 13.33 | 40
Interview Protocol—Grantee staff | 20 | 6.67 | 2 | 1 | 13.33 | 40
Interview Protocol—Community College Leadership | 10 | 3.33 | 2 | 1 | 6.67 | 20
Interview Protocol—Community College Instructors | 20 | 6.67 | 2 | 1 | 13.33 | 40
Interview Protocol—Employer Partners | 20 | 6.67 | 2 | 1 | 13.33 | 40
Interview Protocol—Workforce Development partners | 20 | 6.67 | 2 | 1 | 13.33 | 40
Interview Protocol—CFBOs, Social Service Partners | 10 | 3.33 | 2 | 1 | 6.67 | 20
Interview Protocol—Union Representatives | 10 | 3.33 | 2 | 1 | 6.67 | 20
Grantee Survey | * 41 | 13.67 | 1 | 4 | 54.67 | 164
MIS Data Entry—Grantee Supervisor | 200 | 66.67 | 2 | .25 | 33.33 | 100
MIS Data Entry—Grantee Staff | 800 | 266.67 | 6 | .25 | 400 | 1200
Total |  |  |  |  | 574.66 | 1724
* 46 grantees with an estimated 90% response rate.

Comments submitted in response to this request will be summarized and/or included in the request for Office of Management and Budget approval of the information collection request; they will also become a matter of public record.

Dated: August 31, 2017.
Molly Irwin,
Chief Evaluation Officer, U.S. Department of Labor.

[FR Doc. 2017-19423 Filed 9-12-17; 8:45 am]

BILLING CODE 4510-HX-P